DEPARTMENT OF THE INTERIOR

Bureau of Land Management

[LLMTC02000.L51100000.GA0000.LVEME14CE500]

Notice of Termination of Spring Creek Coal Mine Environmental Impact Statement, Big Horn County, MT

AGENCY: Bureau of Land Management, Interior.

ACTION: Notice of termination.

SUMMARY: The preparation of an Environmental Impact Statement (EIS) for Spring Creek Coal Mine is no longer necessary and the process is hereby terminated.

DATES: This termination takes effect immediately.

FOR FURTHER INFORMATION CONTACT: Irma Nansel, Planning and Environmental Coordinator, Miles City Field Office, telephone: 406-233-3653, email: inansel@blm.gov. Persons who use a telecommunications device for the deaf (TDD) may call the Federal Relay Service (FRS) at 1-800-877-8339 to contact Ms. Nansel during normal business hours. The FRS is available 24 hours a day, 7 days a week, to leave a message or question. You will receive a reply during normal business hours.

SUPPLEMENTARY INFORMATION: Pursuant to the National Environmental Policy Act of 1969 (NEPA), as implemented by the Council on Environmental Quality regulations, the Bureau of Land Management (BLM) announced its Notice of Intent (NOI) to prepare an EIS in the Federal Register on December 14, 2016 (81 FR 90380).

The EIS was to evaluate the potential impacts of four proposed actions related to coal mining at the Spring Creek Mine in Big Horn County, Montana: (1) Federal Coal Lease by Application; (2) Application To Modify Federal Coal Lease; (3) Application To Amend Land Use Permit; and (4) Application for a Land Use Lease. The proposed actions involved the potential sale of two tracts of Federal coal through a Lease-By-Application (LBA) and a lease modification application. Both applications covered proposed actions for Federal coal within the Spring Creek Mine. Related to these leasing requests, the EIS would have also evaluated proposed amendments to an existing land use permit to maintain access to mine monitoring and gauging stations and an existing land use lease to provide room for the placement of overburden and infrastructure.

Since the publication of the NOI to prepare an EIS, the BLM no longer proposes to take action due to the unknown timeframe to complete required lease transfers to the new company (the previous company filed for bankruptcy after the NOI was published). Lease transfers may be prolonged due to ongoing bankruptcy court proceedings and the primary need to obtain required State permits to continue current mine operations. In addition, depending on the request by the new company owner, the BLM would need to determine the type of NEPA document to be completed for the proposed action while considering the Miles City Field Office Supplemental EIS Record of Decision, which was signed on November 24, 2019. The lack of lease and mine permit transfers in the near future, in addition to an unknown proposed action, has eliminated the need for detailed analysis. Therefore, the BLM hereby terminates preparation of an EIS for the Spring Creek Coal Mine.

(Authority: 40 CFR 1506.6, 40 CFR 1506.10)

John Mehlhoff,
State Director, Montana/Dakotas BLM.

[FR Doc. 2020-11441 Filed 5-27-20; 8:45 am]

BILLING CODE 4310-DN-P